DEPARTMENT OF ENERGY

Federal Energy Regulatory Commission

[Docket No. RP04-586-000]

Enbridge Pipelines (AlaTenn) L.L.C.; Notice Of Proposed Changes In FERC Gas Tariff

September 14, 2004.

Take notice that on September 10, 2004, Enbridge Pipelines (AlaTenn) L.L.C., (AlaTenn) tendered for filing as part of its FERC Gas Tariff, First Revised Volume No. 1, First Revised Sheet No. 4, to be made effective October 1, 2004.

AlaTenn states that the purpose of the filing is to reflect a revised ACA unit rate for the twelve-month period beginning October 1, 2004. AlaTenn also states that its tariff sheets reflect a $0.0002 per dekatherm decrease in AlaTenn's rates under its Annual Charge Adjustment (ACA) clause that results from a corresponding decrease in the annual charge assessed AlaTenn by the FERC.

AlaTenn further states that due to an inadvertent error and the moving of its office personnel to comply with the Commission's Order 2004 Energy Affiliate Rule, its Regulatory Department did not receive the Commission's notice of the 2004 ACA unit change prior to the September 1, 2004, filing deadline for making such changes to its FERC Gas Tariff. Additionally, AlaTenn states that it believes good cause exists and therefore requests a waiver of the requirements of § 154.207 of the Commission's regulations, and any other waiver that may be necessary, to permit the proposed tariff sheets to be made effective on October 1, 2004.

AlaTenn states that copies of its transmittal letter and appendices have been mailed to all affected customers and interested state commissions.

Any person desiring to intervene or to protest this filing must file in accordance with Rules 211 and 214 of the Commission's Rules of Practice and Procedures (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit original and 14 copies of the protest or intervention to the Federal Energy Regulatory Commission, 888 First Street, NE., Washington, DC 20426.

Copies of this filing are on file with the Commission and are available for public inspection in the Public Reference Room. This filing is also assessable on-line at http://www.ferc.gov, using the “eLibrary” link. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Acting Secretary.

[FR Doc. E4-2270 Filed 9-20-04; 8:45 am]

BILLING CODE 6717-01-P